DEPARTMENT OF TRANSPORTATION

Federal Highway Administration

Environmental Impact Statements; National Summary of Rescinded Notices of Intent

AGENCY: Federal Highway Administration (FHWA), DOT.

ACTION: Notice.

SUMMARY: The FHWA is issuing this notice to advise the public that five States have rescinded Notices of Intent (NOIs) to prepare nine Environmental Impact Statements (EIS) for proposed highway projects. The FHWA Division Offices, in consultation with the State departments of transportation (State DOT), determined that three projects were no longer viable and have formally cancelled the projects. No further Federal resources will be expended on these projects; the environmental review process has been terminated. Four projects are being reassessed and may be reconsidered in whole or in part, by the State DOT at a later time. One project is being rescoped and may not require an EIS. Finally, one project was rescinded without a specific reason for its rescission.

FOR FURTHER INFORMATION CONTACT: Bill Ostrum, Office of Project Development and Environmental Review, (202) 366-4651; Janet Myers, Office of the Chief Counsel, (202) 366-2019; Federal Highway Administration, 1200 New Jersey Avenue SE., Washington, DC 20590.

SUPPLEMENTARY INFORMATION:

Electronic Access

An electronic copy of this document may be downloaded by accessing the Federal Register's home page at: http://www.archives.gov and the Government Printing Office's Web page at http://www.gpoaccess.gov/nara.

Background

The FHWA, as lead Federal agency under the National Environmental Policy Act (NEPA) and in furtherance of its oversight and stewardship responsibilities under the Federal-aid highway program, periodically requests that its Division Offices review, with the State DOTs, the status of all EISs and place those projects that are not actively progressing in a timely manner in an inactive project status. The FHWA maintains lists of active and inactive EIS projects on its Web site at http://www.environment.fhwa.dot.gov/. The FHWA has determined that inactive projects that are no longer a priority or that lack financial resources should be rescinded with a Federal Register notice notifying the public that project activity has been terminated. This notice covers the time period since the last summary was issued on June 3, 2012, and published in the Federal Register at 77 FR 40406 (July 9, 2012). As always, FHWA encourages State DOTs to work with their FHWA Division Office to determine when it is most prudent to initiate an EIS in order to best balance available resources as well as the expectations of the public.

The FHWA is issuing this notice to advise the public that five States (Arizona, California, Mississippi, Nevada, and Texas) have recently rescinded previously issued NOIs for nine EISs for proposed highway projects. A listing of these projects, general location, original NOI date of publication in the Federal Register, and the date that the NOI was formally rescinded by notice published in the Federal Register, is provided below.

The FHWA Division Offices, in consultation with the State DOTs, determined that three projects were no longer viable and have formally cancelled the projects. The projects are: Vernalis Expressway along State Route 132 in San Joaquin and Stanislaus counties California; the connector road between I-10 and the intersection of SR43 and SR 603 outside Kiln, Mississippi; and Loop 9 from US 387 to IH 20 in Dallas and Ellis Counties, Texas.

Four projects are being reassessed and may be reconsidered, in whole or in part, by the State DOT at a later time. These projects include: I-10 Corridor Improvement Study in Maricopa County, Arizona; Sheep Mountain Parkway Transportation Project in Clark County, Nevada; Loop 1604 from I-35 to US 90 in Bexar County, Texas; and the SEIS for US 290/State Highway 71 West improvements through Oak Hill in Travis County, Texas.

One Project will be rescoped and may not require an EIS. This project is: Interstate 515 improvements from Las Vegas to Henderson in Clark County, Nevada.

Finally, one project was rescinded without a specific reason for its rescission. This project is: SR 75/282 Transportation Corridor Project in the city of Coronado, San Diego County, California.

State | Project name | Original NOI date | Rescinded NOI date
AZ | I-10 Corridor Improvement Study | 2/4/2002 | 12/17/2012
CA | Vernalis Expressway | 6/3/2002 | 10/2/2012
CA | State Route 75/282 Transportation Corridor Project | 1/17/2007 | 11/7/2012
MS | Connector Road between I-10 and intersection of State Routes 43 and 603 | 8/26/2011 | 4/3/2013
NV | I-515 improvements | 8/13/2004 | 6/20/2012
NV | Sheep Mountain Parkway Multimodial Transportation Project | 11/6/2007 | 8/28/2012
TX | US 290/State Highway 71 West Improvements | 8/15/2008 | 7/9/2012
TX | Loop 9 from US 287 to IH 20 | 8/2/2002 | 3/20/2013
TX | Loop 1604 from I-35 to US 90 | 7/31/2009 | 5/7/2013

(Catalog of Federal Domestic Assistance Program Number 20.205, Highway Planning and Construction. The regulations implementing Executive Order 12372 regarding intergovernmental consultation on Federal programs and activities apply to this program.)

Issued on: June 14, 2013.
Victor M. Mendez,
Federal Highway Administrator.

[FR Doc. 2013-14827 Filed 6-20-13; 8:45 am]

BILLING CODE 4910-22-P